DEPARTMENT OF COMMERCE

National Oceanic and Atmospheric Administration

RIN: 0648-XC14

New England Fishery Management Council; Public Meeting

AGENCY: National Marine Fisheries Service (NMFS), National Oceanic and Atmospheric Administration (NOAA), Commerce.

ACTION: Notice of a public meeting.

SUMMARY: The New England Fishery Management Council's (Council) Multispecies (Groundfish) Committee will meet to consider actions affecting New England fisheries in the exclusive economic zone (EEZ).

DATES: The meeting will be held on Wednesday, September 5, 2007, at 9 a.m.

ADDRESSES: The meeting will be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Multispecies (Groundfish) Oversight Committee will meet to continue development of Amendment 16 to the Northeast Multispecies Fishery Management Plan. The Committee will continue its discussion of sector management issues. They will review draft text summarizing recommendations for sector policies made by the Committee at its meeting on August 1, 2007. The Committee will also review specific sector proposals, identifying elements that may need revisions to sector implementing regulations. They will review suggestions for changes to the effort control systems for common pool vessels. They will identify which suggestions will impact fishing mortality and may develop recommendations on those measures that should not be pursued in Amendment 16. The Committee may also discuss other Amendment 16 issues. Committee recommendations will be forwarded to the Council for action at a future date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 15, 2007.
Tracey L Thompson,
Acting Director, Office of Sustainable Fisheries, National Marine Fisheries Service.

[FR Doc. E7-16275 Filed 8-17-07; 8:45 am]

BILLING CODE 3510-22-S